DEPARTMENT OF THE INTERIOR

Bureau of Land Management

[BLM MT FRN MO#4500173844]

Notice of Realty Action: Proposed Amendment to an Existing Lease, Montana

AGENCY: Bureau of Land Management, Interior.

ACTION: Notice of realty action.

SUMMARY: The Bureau of Land Management (BLM) received an application from Navajo Transitional Energy Company (NTEC) to amend its existing lease pursuant to section 302 of the Federal Land Policy and Management Act (FLPMA) of 1976, as amended, and BLM regulations. The proposed lease amendment would allow surface use only, and no mineral extractions would be allowed on the subject lands. The annual rental for this lease is $115.47 per acre, and the lease would expire on April 22, 2032, with the option of renewal. This project is located southeast of Billings, Montana.

DATES: Interested parties may submit written comments regarding the proposed amendment on or before. April 8, 2024.

ADDRESSES: Written comments may be mailed, or hand delivered to BLM Miles City Field Office, 111 Garryowen Road, Miles City, MT 59301. Comments may also be submitted electronically at BLM_MT_MilesCity_FO@blm.gov. The BLM will not consider comments received by telephone.

FOR FURTHER INFORMATION CONTACT: Beth Klempel, Assistant Field Manager, BLM Miles City Field Office, 111 Garryowen Road, Miles City, MT 59301, telephone 406-233-2800, or email bklempel@blm.gov. For information regarding this case, refer to case file MTM 74913 and/or MTMT 106077659. Individuals in the United States who are deaf, deafblind, hard of hearing, or have a speech disability may dial 711 (TTY, TDD, or TeleBraille) to access telecommunications relay services for contacting Beth Klempel. Individuals outside the United States should use the relay services offered within their country to make international calls to the point-of-contact in the United States.

SUPPLEMENTARY INFORMATION: The proposed lease amendment effects the following described lands:

Principal Meridian, Montana

T. 8 S., R. 39 E.,

Sec. 13, NE¼SE¼ that portion lying westerly of the west right-of way boundary of MTM-37463, and NE¼NW¼SE¼.

Sec. 35, W½NW¼NE¼SE¼, SW¼NE¼SE¼, W½SE¼SE¼, and SE¼SE¼SE¼.

The areas described aggregate 67 acres according to the official plat of the survey of the said lands on file with the BLM, as well as approximate GIS calculations.

The BLM is considering amending the existing lease, which currently includes 277.12 acres, to authorize an additional 67 acres, which would increase the total acreage to 344.12 acres. The additional acreage would allow for surface layback, establishing a highwall crest, topsoil and overburden stockpiles, and transportation and utility corridors. Layback on the area proposed by the lease amendment is a critical component in coal surface mine recovery to stabilize the wall as mining on the adjoining land progresses.

The BLM is considering offering the lease amendment noncompetitively to NTEC because the authorized officer has determined that: (1) these parcels are surrounded by land owned or controlled by NTEC; and (2) it is unlikely there would be interest in competitive bidding on these lands.

If the BLM approves the application to amend the lease, the reimbursement of costs and annual rental is the responsibility of the applicant in accordance with the provisions of 43 CFR 2920.6 and 2920.8, respectively. The lease amendment, as proposed in the application, is consistent with the 2015 Miles City Field Office Resource Management Plan.

Comments on the proposed lease amendment should be specific, confined to issues pertinent to the proposed action, and should explain the reason for any recommended revisions. Where possible, comments should include references with specific sections or paragraphs. The BLM is not obligated to consider or include comments received after the close of the comment period or comments delivered to an address other than the one listed above.

Comments, including names and street addresses of respondents, will be available for public review at the BLM Miles City Field Office address listed in ADDRESSES above. Before including your address, phone number, email address, or other personal identifying information in your comments, you should be aware that your entire comment—including your personal identifying information—may be made publicly available at any time. While you can ask us in your comment to withhold your personal identifying information from public review, we cannot guarantee that we will be able to do so.

Any adverse comments regarding the proposed lease amendment will be reviewed by the BLM Montana State Director or other authorized official of the Department of the Interior, who may sustain, vacate, or modify this realty action in whole or in part.

(Authority: 43 CFR 2920.4)

Eric D. Lepisto,
Miles City Field Manager.

[FR Doc. 2024-03721 Filed 2-22-24; 8:45 am]

BILLING CODE 4331-20-P